DEPARTMENT OF AGRICULTURE

Agricultural Research Service

Notice of Intent To Seek Approval To Collect Information; Correction

AGENCY: USDA, Agricultural Research Service, National Agricultural Library.

ACTION: Notice and request for comments; correction.

SUMMARY: This document corrects the National Agricultural Library's Notice of Intent to Seek Approval to Collect Information. The notice was published in the Federal Register of March 28, 2005. This correction provides the correct e-mail address for submitting comments to the National Library.

Correction

In the Federal Register of March 28, 2005, in FR Doc. 05-6026, on page 15613, in the third column, correct the ADDRESSES section to read as follows:

ADDRESSES: Address all comments concerning this notice to Mary Ann Leonard, Special Projects Coordinator, Information Research Services Branch, National Agricultural Library, 10301 Baltimore Avenue, Beltsville, MD 20705-2351, telephone (301) 504-6500 or fax (301) 504-6409. Submit electronic comments to mleonard@nal.usda.gov.

Dated: April 11, 2005.
Antoinette A. Betschart,
Associate Administrator for Agricultural Research Service.

[FR Doc. 05-8031 Filed 4-21-05; 8:45 am]

BILLING CODE 3410-03-P